DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of six individuals and six entities whose property and interests in property have been blocked pursuant to the Foreign Narcotics Kingpin Designation Act (Kingpin Act).

DATES: The designations by the Acting Director of OFAC of the six individuals and six entities identified in this notice pursuant to section 805(b) of the Kingpin Act are effective on September 29, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic Availability

This document and additional information concerning OFAC are available on OFAC's Web site at http://www.treasury.gov/ofac.

Background

The Kingpin Act, 21 U.S.C. 1901-1908, 8 U.S.C. 1182, became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Kingpin Act provides that the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 29, 2016, the Acting Director of OFAC designated the following six individuals and six entities whose property and interests in property are blocked pursuant to section 805(b) of the Kingpin Act.

Individuals

1. MUNOZ MEJIA, Jonathan (Latin: MUÑOZ MEJIA, Jonathan) (a.k.a. MUNOZ MEJIA, Jhonathan), Colombia; Mexico; DOB 07 Nov 1985; POB Manizales, Caldas, Colombia; nationality Colombia; Cedula No. 75107204 (Colombia); C.U.R.P. MUMJ851107HNEXJN01 (Mexico) (individual) [SDNTK] (Linked To: AVICAL S.A.; Linked To: INVERSIONES LA PLATA M & M S. EN C.A.; Linked To: ROMIK S.A.; Linked To: MUNSA INTERNATIONAL INVESMENTS S.A.). Directed by, or acting for or on behalf of, German MUNOZ HOYOS, AVICAL S.A., INVERSIONES LA PLATA M & M S. EN C.A. (a.k.a. A.K.A. INVERSIONES LA PLATA M Y M), and/or ROMIK S.A., and therefore meets the statutory criteria for designation as an SDNT pursuant to section 805(b)(3) of the Kingpin Act, 21 U.S.C. 1904(b)(3).

2. MUNOZ HOYOS, Carlos Ivan (Latin: MUÑOZ HOYOS, Ivan Carlos), Colombia; DOB 23 Dec 1957; POB Aranzazu, Caldas, Colombia; nationality Colombia; Cedula No. 10234256 (Colombia) (individual) [SDNTK] (Linked To: AVICAL S.A.). Directed by, or acting for or on behalf of, German MUNOZ HOYOS, Jonathan MUNOZ MEJIA (a.k.a. MUNOZ MEJIA, Jhonathan), and/or AVICAL S.A. and therefore meets the statutory criteria for designation pursuant to section 805(b)(3) of the Kingpin Act, 21 U.S.C. 1904(b)(3).

3. MUNOZ MEJIA, Eliana (Latin: MUÑOZ MEJIA, Eliana), Colombia; Mexico; DOB 12 Jun 1989; POB Manizales, Caldas, Colombia; nationality Colombia; Cedula No. 1053795962 (Colombia); C.U.R.P. MUME890612MNEXJL02 (Mexico); Identification Number 89061251694 (Colombia) (individual) [SDNTK] (Linked To: AVICAL S.A.; Linked To: INVERSIONES LA PLATA M & M S. EN C.A.). Directed by, or acting for or on behalf of, German MUNOZ HOYOS, AVICAL S.A., and/or INVERSIONES LA PLATA M & M S. EN C.A. (a.k.a. A.K.A. INVERSIONES LA PLATA M Y M), and therefore meets the statutory criteria for designation as an SDNT pursuant to section 805(b)(3) of the Kingpin Act, 21 U.S.C. 1904(b)(3).

4. MUNOZ MEJIA, Jhonny German (Latin: MUÑOZ MEJIA, Jhonny German), Colombia; Mexico; DOB 17 Dec 1986; POB Manizales, Caldas, Colombia; nationality Colombia; Cedula No. 1053768644 (Colombia); C.U.R.P. MUMJ861217HNEXJH05 (Mexico); Identification Number 86121753660 (Colombia) (individual) [SDNTK] (Linked To: AVICAL S.A.; Linked To: INVERSIONES LA PLATA M & M S. EN C.A.; Linked To: ROMIK S.A.). Directed by, or acting for or on behalf of, German MUNOZ HOYOS, AVICAL S.A., INVERSIONES LA PLATA M & M S. EN C.A. (a.k.a. A.K.A. INVERSIONES LA PLATA M Y M), and/or ROMIK S.A., and therefore meets the statutory criteria for designation as an SDNT pursuant to section 805(b)(3) of the Kingpin Act, 21 U.S.C. 1904(b)(3).

5. MUNOZ HOYOS, German (Latin: MUÑOZ HOYOS, German), Colombia; Mexico; DOB 26 Jan 1965; POB Manizales, Caldas, Colombia; nationality Colombia; citizen Colombia; alt. citizen Mexico; Cedula No. 10268158 (Colombia); Passport A0630659 (Colombia); alt. Passport G15527939 (Mexico); C.U.R.P. MUHG650126HNEXYR06 (Mexico) (individual) [SDNTK] (Linked To: AVICAL S.A.; Linked To: INVERSIONES LA PLATA M & M S. EN C.A.; Linked To: ROMIK S.A.; Linked To: GEMUHO HOLDING, INC; Linked To: UNIREFRICLIMA S.A.). Plays a significant role in international narcotics trafficking and therefore meets the statutory criteria for designation pursuant to section 805(b)(4) of the Kingpin Act, 21 U.S.C. 1904(b)(4).

6. MURILLO SALAZAR, Claudia Julieta, Colombia; Mexico; DOB 29 Jul 1975; POB Manizales, Caldas, Colombia; nationality Colombia; Cedula No. 30335610 (Colombia); C.U.R.P. MUSC750729MNERU04 (Mexico) (individual) [SDNTK] (Linked To: AVICAL S.A.; Linked To: MUNSA INTERNATIONAL INVESMENTS S.A.). Directed by, or acting for or on behalf of, German MUNOZ HOYOS and/or AVICAL S.A., and therefore meets the statutory criteria for designation as an SDNT pursuant to section 805(b)(3) of the Kingpin Act, 21 U.S.C. 1904(b)(3).

Entities

1. AVICAL S.A., Transversal 72 No. 16-11, Glorieta de Milan, Manizales, Caldas, Colombia; Carrera 18 No. 30-65, Manizales, Caldas, Colombia; Calle 161 No. 91A-53, Bogota, Cundinamarca, Colombia; Medellin, Antioquia, Colombia; Dosquebradas, Risaralda, Colombia; NIT #810006566-9 (Colombia) [SDNTK]. Owned, controlled, or directed by, or acting for or on behalf of German MUNOZ HOYOS and therefore meets the criteria for designation pursuant to section 805(b)(3) of the Kingpin Act, 21 U.S.C. 1904(b)(3).

2. GEMUHO HOLDING, INC, Costa de Este, P.H. Sevilla, Torre 1, apartamento 43B, Panama City, Panama; RUC #2388488-1-803204 (Panama) [SDNTK]. Controlled, or directed by, or acting for or on behalf of German MUNOZ HOYOS and therefore meets the criteria for designation pursuant to section 805(b)(3) of the Kingpin Act, 21 U.S.C. 1904(b)(3).

3. INVERSIONES LA PLATA M & M S. EN C.A. (a.k.a. INVERSIONES LA PLATA M Y M), Carrera 18 No. 30-65, Manizales, Caldas, Colombia; Transversal 72 No. 16-11, Glorieta de Milan, Manizales, Caldas, Colombia; NIT #900324723-2 (Colombia) [SDNTK]. Owned, controlled, or directed by, or acting for or on behalf of German MUNOZ HOYOS, Jonathan MUNOZ MEJIA (a.k.a. MUNOZ MEJIA, Jhonathan), and/or AVICAL, S.A., and therefore meets the criteria for designation pursuant to section 805(b)(3) of the Kingpin Act, 21 U.S.C. 1904(b)(3).

4. MUNSA INTERNATIONAL INVESMENTS S.A., Panama City, Panama; RUC #155608664-2-2015 (Panama) [SDNTK]. Controlled or directed by, or acting for or on behalf, of Claudia Julieta MURILLO SALAZAR.

5. ROMIK S.A., P.H. Plaza 2000, Piso 11, Urbanizacion Marbella, Panama City, Panama; RUC #1661921-1-677849 (Panama) [SDNTK]. Controlled or directed by, or acting for or on behalf of, MUNOZ HOYOS, Jonathan MUNOZ MEJIA, and/or Jhonny German MUNOZ MEJIA, and therefore meets the criteria for designation pursuant to section 805(b)(3) of the Kingpin Act, 21 U.S.C. 1904(b)(3).

6. UNIREFRICLIMA S.A., Panama City, Panama; RUC #155608664-2-2015 (Panama) [SDNTK]. Controlled, or directed by, or acting for or on behalf of German MUNOZ HOYOS and therefore meets the criteria for designation pursuant to section 805(b)(3) of the Kingpin Act, 21 U.S.C. 1904(b)(3).

Dated: September 29, 2016.
Andrea Gacki
Acting Director, Office of Foreign Assets Control.

[FR Doc. 2016-23942 Filed 10-3-16; 8:45 am]

BILLING CODE 4810-AL-P